FEDERAL COMMUNICATIONS COMMISSION

47 CFR Part 73

[DA 01-192; MM Docket No. 01-19, RM-10048, MM Docket No. 01-20, RM-10049; MM Docket No. 01-21, RM-10050]

Radio Broadcasting Services; Saint Joseph, LA; Reliance, WY; and Genoa, CO

AGENCY: Federal Communications Commission.

ACTION: Proposed rule.

SUMMARY: This document proposes three new allotments to Saint Joseph, Louisiana; Reliance, Wyoming; and Genoa, Colorado.

DATES: Comments must be filed on or before March 19, 2001, and reply comments on or before April 3, 2001.

ADDRESSES: Federal Communications Commission, Washington, DC 20554. In addition to filing comments with the FCC, interested parties should serve the petitioner, his counsel, or consultant, as follows: Ann Bavender, Fletcher, Heald & Hildreth, P.L.C., 1300 N. 17th Street, 11th Floor, Arlington, Virginia 22209 (Counsel for Saint Joseph Broadcasting Company); A. Wray Fitch, III, Gammon & Grange, P.C., 8280 Greensboro Drive, 7th Floor, McLean, Virginia 22102-3807 (Counsel for Reliance Broadcasting and Genoa Broadcasting).

SUPPLEMENTARY INFORMATION: This is a synopsis of the Commission's Notice of Proposed Rule Making, MM Docket No. 01-19; MM Docket No. 01-20; and MM Docket No. 01-21, adopted January 17, 2001, and released January 26, 2001. The full text of this Commission decision is available for inspection and copying during normal business hours in the FCC Reference Information Center (Room CY-A257), 445 12th Street, SW, Washington, DC. The complete text of this decision may also be purchased from the Commission's copy contractor, International Transcription Service, Inc., (202) 857-3800, 1231 20th Street, NW., Washington, DC 20036.

The Commission requests comments on a petition filed by Saint Joseph Broadcasting Company proposing the allotment of Channel 257C3 at Saint Joseph, Louisiana, as the community's first local aural transmission service. Channel 257C3 can be allotted to Saint Joseph in compliance with the Commission's minimum distance separation requirements with a site restriction of 7.6 kilometers (4.7 miles) southeast to avoid a short-spacing to the licensed site of Station WJMI(FM), Channel 259C, Jackson, Mississippi. To accommodate the allotment, Channel 266A can be substituted at Clayton with a site restriction of 3.4 kilometers (2.1 miles) northeast to avoid short-spacings to the licensed sites of Station KBON(FM), Channel 266C3, Mamou, Louisiana, and Station WBBV(FM), Channel 267C3, Vicksburg, Mississippi. The coordinates for Channel 257C3 at Saint Joseph are 31-51-44 North Latitude and 91-11-41 West Longitude.

The Commission requests comments on a petition filed by Reliance Broadcasting proposing the allotment of Channel 288C3 at Reliance, Wyoming, as the community's first local aural transmission service. Channel 288C3 can be allotted to Reliance in compliance with the Commission's minimum distance separation requirements with a site restriction of 6.9 kilometers (4.3 miles) east to avoid a short-spacing to the licensed site of Station KDWY(FM), Channel 287C2, Diamondville, Wyoming. The coordinates for Channel 288C3 at Reliance are 41-39-44 North Latitude and 109-06-50 Longitude.

The Commission requests comments on a petition filed by Genoa Broadcasting proposing the allotment of Channel 288C3 at Genoa, Colorado, as the community's first local transmission service. Channel 288C3 can be allotted to Genoa in compliance with the Commission's minimum distance separation requirements site restriction of 21.3 kilometers (13.3 miles) northeast to avoid a short-spacing to the licensed site of Station KVAY(FM), Channel 289C1, Lamar, Colorado. The coordinates for Channel 288C3 at Genoa are 39-23-06 North Latitude and 103-17-38 West Longitude.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

Federal Communications Commission.
John A. Karousos,
Chief, Allocations Branch, Policy and Rules Division, Mass Media Bureau.

[FR Doc. 01-3964 Filed 2-15-01; 8:45 am]

BILLING CODE 6712-01-P